DEPARTMENT OF HEALTH AND HUMAN SERVICES

Centers for Disease Control and Prevention

[30DAY-31-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

1. Evaluation of Viral Hepatitis Educational Materials—New—National Center for Infectious Disease (NCID). The purpose of the proposed study is to assess the usefulness of hepatitis educational materials developed and distributed by the Hepatitis Branch, CDC. Annually, 125,000—200,000 Americans are infected with hepatitis A virus (HAV) and results in approximately 100 deaths. The estimated cost associated with HAV infections is estimated at $200 million a year in medical care and lost work days. An estimated 1 million to 1.25 million Americans are chronically infected with hepatitis B virus (HBV) and 4,000 to 5,000 die each year due to resultant cirrhosis and liver cancer. The estimated cost associated with HBV infections is estimated at $700 million a year in medical care and lost work days. It is estimated that 3.9 million Americans have been infected with hepatitis C virus (HCV), 2.7 million of which are chronically infected. Not including the cost of liver transplantation, the estimated cost associated with HCV infections is $600 million a year in medical care and lost work days.

The annual burden hours are estimated to be 2403.

Form name | Number of respondents | Number of responses/respondent | Avg. burden per responses (in hours)
Phone | 20 | 1 | 10/60
Written | 14400 | 1 | 10/60

Dated: May 16, 2000.
Nancy Cheal,
Acting Associate Director for Policy, Planning, and Evaluation, Centers for Disease Control and Prevention (CDC).

[FR Doc. 00-12739 Filed 5-19-00; 8:45 am]

BILLING CODE 4163-18-P